DEPARTMENT OF ENERGY

10 CFR Part 1046

[Docket No. DOE-HQ-2012-0002]

RIN 1992-AA40

Protective Force Personnel Medical, Physical Readiness, Training, and Access Authorization Standards

AGENCY: Department of Energy.

ACTION: Proposed rule; notice of extension of public comment period.

SUMMARY: This document announces that the period for submitting comments on the proposed rule to amend the standards for medical, physical performance, training, and access authorizations for protective force (PF) personnel employed by contractors providing security services to the Department will be extended until April 13, 2012.

DATES: The comment period for the proposed rule published March 6, 2012 (77 FR 13206), is extended. The Department of Energy (DOE) will accept comments, data, and information on the proposal received no later than April 13, 2012.

ADDRESSES: You may submit comments, identified by DOE-HQ-2012-0002 and/or 1992-AA40, by any of the following methods:

• Federal eRulemaking Portal: http://www.regulations.gov. Follow the instructions for submitting comments.

• Email: 1992-AA40@hq.doe.gov. Include DOE-HQ-2012-0002 and/or 1992-AA40 in the subject line of the message.

• Mail: Mailing Address for paper, disk, or CD-ROM submissions: Department of Energy, Office of Security Policy, (HS-51, Attn: John Cronin), 1000 Independence Ave. SW., Washington, DC 20585-1290.

• Hand Delivery/Courier: Street Address: Department of Energy, Office of Security Policy, (HS-51, Attn: John Cronin), 1000 Independence Ave. SW., Washington, DC 20585-1290.

Instructions: All submissions received must include the agency name and docket number or Regulatory Information Number (RIN) for this rulemaking. All comments received will be posted without change to http://www.regulations.gov, including any personal information provided.

Docket: For access to the docket to read background documents or comments received, go to http://www.regulations.gov or contact John Cronin at (301) 903-6209 prior to visiting Department of Energy, Office of Security Policy, (HS-51), 19901 Germantown Rd., Germantown, MD 20874.

FOR FURTHER INFORMATION CONTACT: Requests for additional information may be sent to Mr. John Cronin, Office of Security Policy at (301) 903-6209; John.Cronin@hq.doe.gov.

SUPPLEMENTARY INFORMATION: On March 6, 2012, DOE published a proposed rule to revise the standards for medical, physical performance, training, and access authorizations for PF personnel employed by contractors providing security services to the Department. (77 FR 13206) Commenters requested an extension of the comment period until April 13, 2012, stating that the extension was needed to allow sufficient time to address many important issues in the proposed revisions. Commenters cited the need to collect information and thoughts from various sites to prepare comments from the National Council of Security Police, and stated that the additional week would allow time to gather all the information and prepare focused comments. DOE has determined that an extension of the public comment period is appropriate based on the foregoing reasons and is hereby extending the comment period. DOE will consider any comments received by April 13, 2012.

Further Information on Submitting Comments

Under 10 CFR 1004.11, any person submitting information that he or she believes to be confidential and exempt by law from public disclosure should submit two copies: One copy of the document including all the information believed to be confidential, and one copy of the document with the information believed to be confidential deleted. DOE will make its own determination about the confidential status of the information and treat it according to its determination.

Issued in Washington, DC, on April 2, 2012.
Glenn S. Podonsky,
Chief Health, Safety And Security Officer, Office of Health, Safety and Security.

[FR Doc. 2012-8327 Filed 4-5-12; 8:45 am]

BILLING CODE 6450-01-P